NUCLEAR REGULATORY COMMISSION

[NRC-2015-0020]

Information Collection: NRC Request for Information Concerning Patient Release Practices

AGENCY: Nuclear Regulatory Commission.

ACTION: Proposed information collection; request for comment.

SUMMARY: The U.S. Nuclear Regulatory Commission (NRC) invites public comment on this proposed collection of information. The information collection is entitled, “NRC Request for Information Concerning Patient Release Practices.”

DATES: Submit comments by May 4, 2015. Comments received after this date will be considered if it is practical to do so, but the Commission is able to ensure consideration only for comments received on or before this date.

ADDRESSES: You may submit comments by any of the following methods:

• Federal Rulemaking Web site: Go to http://www.regulations.gov and search for Docket ID NRC-2015-0020. Address questions about NRC dockets to Carol Gallagher; telephone: 301-415-3463; email: Carol.Gallagher@nrc.gov. For technical questions, contact the individual listed in the FOR FURTHER INFORMATION CONTACT section of this document.

• Mail comments to: Tremaine Donnell, Office of Information Services, Mail Stop: T-5 F53, U.S. Nuclear Regulatory Commission, Washington, DC 20555-0001.

For additional direction on obtaining information and submitting comments, see “Obtaining Information and Submitting Comments” in the SUPPLEMENTARY INFORMATION section of this document.

FOR FURTHER INFORMATION CONTACT: Tremaine Donnell, Office of Information Services, U.S. Nuclear Regulatory Commission, Washington, DC 20555-0001; telephone: 301-415-6258; email: INFOCOLLECTS.Resource@NRC.GOV.

SUPPLEMENTARY INFORMATION:

I. Obtaining Information and Submitting Comments

A. Obtaining Information

Please refer to Docket ID NRC-2015-0020 when contacting the NRC about the availability of information for this action. You may obtain publicly-available information related to this action by any of the following methods:

• Federal Rulemaking Web site: Go to http://www.regulations.gov and search for Docket ID NRC-2015-0020. A copy of the collection of information and related instructions may be obtained without charge by accessing Docket ID NRC-2015-0020 on this Web site.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML15015A612. The supporting statement and Patient Release Federal Register Notice Soliciting Information is available in ADAMS under Accession No. ML15015A624.

• NRC's PDR: You may examine and purchase copies of public documents at the NRC's PDR, Room O1-F21, One White Flint North, 11555 Rockville Pike, Rockville, Maryland 20852.

• NRC's Clearance Officer: A copy of the collection of information and related instructions may be obtained without charge by contacting NRC's Clearance Officer, Tremaine Donnell, Office of Information Services, U.S. Nuclear Regulatory Commission, Washington, DC 20555-0001; telephone: 301-415-6258; email: INFOCOLLECTS.Resource@NRC.GOV.

B. Submitting Comments

Please include Docket ID NRC-2015-0020 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

In accordance with the Paperwork Reduction Act of 1995 (44 U.S.C. Chapter 35), the NRC is requesting public comment on its intention to request the OMB's approval for the information collection summarized below.

1. The title of the information collection: NRC Request for Information Concerning Patient Release Practices.

2. OMB approval number: OMB control number has not yet been assigned to this proposed information collection.

3. Type of submission: New.

4. The form number, if applicable: N/A.

5. How often the collection is required or requested: Once.

6. Who will be required or asked to respond: Medical professional organizations, physicians, patients, patient advocacy groups, NRC and Agreement State medical use licensees, Agreement States, and other interested individuals who use, receive, license or have interest in the use of I-131 sodium iodine (hereafter referred to as “I-131”) for the treatment of thyroid conditions.

7. The estimated number of annual responses: A one-time collection estimated to have 1,180 responses (620 medical community + 560 patients).

8. The estimated number of annual respondents: 1,180 respondents (620 medical community + 560 patients).

9. The estimated number of hours needed annually to comply with the information collection requirement or request: 457.5 hours (255 medical community + 202.5 patients).

10. Abstract: The NRC is requesting a one-time information collection that will be solicited in a Federal Register notice (FRN). The FRN will have specific I-131 patient release questions associated with: (1) Existing Web sites that the responders believe provide access to clear and consistent patient information about I-131 treatment processes and procedures; (2) information the responders believe represent best practices used in making informed decisions on releasing I-131 patients and stand alone or supplemental voluntary patient/licensee guidance acknowledgment forms, if available; (3) an existing set of guidelines that the responder developed or received that provides instructions to released patients; and (4) an existing guidance brochure that the responder believes would be acceptable for nationwide distribution. The responses will form the basis for patient release guidance products developed in response to the NRC's April 28, 2014, Staff Requirements—COMAMM-14-0001/COMWDM-14-0001—“Background and Proposed Direction to NRC Staff to Verify Assumptions Made Concerning Patient Release Guidance.” The Commission, based on information from patients and patient advocacy groups, questioned the availability of clear, consistent, patient friendly and timely patient release information and directed the staff to work with a wide variety of stakeholders when developing new guidance products. This information collection effort was developed to gain input from as many stakeholders as possible. The NRC solicitation in the Federal Register is to obtain existing information from a variety of stakeholders.

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated at Rockville, Maryland, this 25th day of February, 2015.
For the Nuclear Regulatory Commission.
Tremaine Donnell,
NRC Clearance Officer, Office of Information Services.

[FR Doc. 2015-04318 Filed 3-2-15; 8:45 am]

BILLING CODE 7590-01-P